DEPARTMENT OF DEFENSE

Department of the Army

Availability for Non-Exclusive, Exclusive, or Partially Exclusive Licensing of U.S. Patent Application Concerning a Method of Making a Vaccine for Anthrax

AGENCY: Department of the Army, DoD.

ACTION: Notice.

SUMMARY: In accordance with 37 CFR 404.6 and 404.7, announcement is made of the availability for licensing of U.S. Patent Application Serial No. 09/520,215 entitled “Method of Making a Vaccine for Anthrax,” filed March 7, 2000. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A method of making a vaccine from a protective antigen. The protective antigen is useful against Bacillus anthracis. The protective antigen is produced by an asporogenic organism, which overproduces the desired antigen. The asporogenic organism is a recombinant asporogenic B. anthracis. The recombinant asporogenic B. anthracis was derived from a Δ Sterne-1(pPA102) strain of bacteria and binds to dye when grown on Congo Red Agar.

Luz D. Ortiz,
Army Federal Register Liaison Officer.

[FR Doc. 02-11072 Filed 5-2-02; 8:45 am]

BILLING CODE 3710-08-M